DEPARTMENT OF COMMERCE

National Oceanic and Atmospheric Administration

RIN 0648-XV04

Endangered Species; File Nos. 14759-01 and 16375-01

AGENCY: National Marine Fisheries Service (NMFS), National Oceanic and Atmospheric Administration (NOAA), Commerce.

ACTION: Notice; receipt of applications for permit modification.

SUMMARY: Notice is hereby given that the North Carolina Cooperative Fish and Wildlife Research Unit, North Carolina State University, Raleigh, NC 27695 [Joseph Hightower: Responsible Party], has applied in due form for permit modifications to take shortnose sturgeon (Acipenser brevirostrum) and Atlantic sturgeon (Acipenser oxyrinchus oxyrinchus) for purposes of scientific research.

DATES: Written, telefaxed, or email comments must be received on or before May 20, 2013.

ADDRESSES: The application and related documents are available for review by selecting “Records Open for Public Comment” from the Features box on the Applications and Permits for Protected Species (APPS) home page, https://apps.nmfs.noaa.gov, and then selecting File Nos. 14759-01 and 16375-01 from the list of available applications.

These documents are also available upon written request or by appointment in the following offices:

• Permits and Conservation Division, Office of Protected Resources, NMFS, 1315 East-West Highway, Room 13705, Silver Spring, MD 20910; phone (301) 427-8401; fax (301) 713-0376; and

• Southeast Region, NMFS, 263 13th Avenue South, Saint Petersburg, Florida 33701; phone (727) 824-5312; fax (727) 824-5309.

Written comments on either application should be submitted to the Chief, Permits and Conservation Division

• By email to NMFS.Pr1Comments@noaa.gov (include the File No. in the subject line of the email);

• By facsimile to (301) 713-0376; or

• At the address listed above.

Those individuals requesting a public hearing should submit a written request to the Chief, Permits and Conservation Division at the address listed above. The request should set forth the specific reasons why a hearing on the application would be appropriate.

FOR FURTHER INFORMATION CONTACT: Malcolm Mohead or Colette Cairns at (301) 427-8401.

SUPPLEMENTARY INFORMATION: The subject permit modifications are requested under the authority of the Endangered Species Act of 1973, as amended (ESA; 16 U.S.C. 1531 et seq.), and the regulations governing the taking, importing, and exporting of endangered and threatened species (50 CFR parts 222-226).

Permit No. 14759 was issued August 20, 2010 (75 FR 53278), and Permit No. 16375 was issued on April 6, 2012 (77 FR 21754) to the applicant listed above. Each permit currently authorizes the permit holder to assess the presence, abundance, and distribution of shortnose sturgeon and Atlantic sturgeon, respectively, within North Carolina rivers (Chowan, Roanoke, Tar-Pamlico, Neuse, and Cape Fear) and estuaries (Albemarle Sound) using non-lethal sampling methods, using hydroacoustic surveys (side-scan, DIDSON) and gill nets. The permit holder is now requesting authorization to modify both permits to allow use of artificial substrates for characterizing spawning activity in the Roanoke and/or Cape Fear Rivers. Specifically, it is proposed that artificial substrates be used for collecting up to 50 shortnose sturgeon and 50 Atlantic sturgeon early life stages (ELS) per river annually. Proposed sampling for ELS would be conducted up to the first impassible dam, i.e., river kilometer 221 in the Roanoke River and river kilometer 300 in the Cape Fear River. The artificial substrates for collecting sturgeon ELS would be made from floor buffing pads, approximately 2 feet in diameter, and these would anchored to the river bottom and marked with a buoy. The pads would be monitored at least twice per week during suspected spawning runs of either species. The modifications would be valid until the respective permits expire on August 19, 2015 (File No. 14759), and April 5, 2017 (File No. 16375).

Dated: April 15, 2013.
P. Michael Payne,
Chief, Permits and Conservation Division, Office of Protected Resources, National Marine Fisheries Service.

[FR Doc. 2013-09142 Filed 4-17-13; 8:45 am]

BILLING CODE 3510-22-P